DEPARTMENT OF COMMERCE

International Trade Administration

[A-485-806]

Notice of Final Results of Antidumping Duty Changed-Circumstances Review: Certain Hot-Rolled Carbon Steel Flat Products from Romania

Import Administration, International Trade Administration, Department of Commerce.

SUMMARY:

On May 13, 2005, the Department of Commerce (the Department) published a notice of initiation and the preliminary results of its changed-circumstances review of the antidumping duty order on certain hot-rolled carbon steel flat products from Romania in which it preliminarily determined that Mittal Steel Galati S.A. (Mittal Steel) is the successor-in-interest to S.C. Ispat Sidex S.A. (Sidex). See Certain Hot-Rolled Carbon Steel Flat Products from Romania: Initiation and Preliminary Results of Changed-Circumstances Review, 70 FR 25547 (May 13, 2005). We gave interested parties the opportunity to comment. We received no comments. Therefore, for these final results, the Department is adopting its preliminary determination that Mittal Steel is the successor-in-interest to Sidex.

EFFECTIVE DATE: July 15, 2005.

FOR FURTHER INFORMATION CONTACT:

Dunyako Ahmadu at (202) 482-0198 or Dave Dirstine at (202) 482-4033, AD/CVD Operations, Office 5, Import Administration, International Trade Administration, U.S. Department of Commerce, 14th Street and Constitution Avenue, NW, Washington, DC 20230.

SUPPLEMENTARY INFORMATION:

Background

On November 29, 2001, the Department published in the Federal Register an antidumping duty order on certain hot-rolled carbon steel flat products from Romania. See Notice of Amended Final Antidumping Duty Determination and Antidumping Duty Order: Certain Hot-Rolled Carbon Steel Flat Products from Romania, 66 FR 59566 (November 29, 2001). Since publication, there have been two administrative reviews of this order. Sidex was a participant in both administrative reviews. In a letter dated March 24, 2005, Sidex informed the Department that on February 7, 2005, it changed its corporate name to Mittal Steel Galati, S.A. (Mittal Steel), following the approval of the name change by Sidex's general meeting of shareholders on January 10, 2005. Sidex provided record evidence indicating that the name change was unconditionally recorded and approved by the Trade Register Office of the Galati Tribunal and the National Office of the Trade Registry, a bureau of the Romanian Ministry of Justice, on February 7, 2005. As such, Sidex requested that the Department initiate a changed-circumstances review to confirm that Mittal Steel is the successor-in-interest to Sidex for purposes of determining antidumping-duty liabilities. Sidex also requested that the Department conduct a changed-circumstances review on an expedited basis, pursuant to 19 CFR 351.221(c)(3)(ii).

Because the record evidence supporting Sidex's claim was sufficient, the Department found that an expedited review was practicable and, on May 13, 2005, issued a combined notice of initiation with the preliminary results. See Certain Hot-Rolled Carbon Steel Flat Products from Romania: Initiation and Preliminary Results of Changed-Circumstances Review, 70 FR 25547 (May 13, 2005) (Preliminary Results).

In its Preliminary Results, the Department provided the interested parties with an opportunity to comment or request a public hearing regarding the Department's finding that Mittal Steel is the successor-in-interest to Sidex. We did not receive any comments or any requests for a public hearing.

Scope of the Order

For purposes of the order, the products covered include hot-rolled carbon steel flat products. For a complete description of the scope of the order, see Certain Hot-Rolled Carbon Steel Flat Products from Romania: Preliminary Results of Antidumping Duty Administrative Review, 69 FR 70644 (December 7, 2004).

Final Results of Changed-Circumstances Review

For the reasons stated in the Preliminary Results and because we received no comments to the contrary, we continue to find that Mittal Steel is the successor-in-interest to Sidex. We will instruct U.S. Customs and Border Protection (CBP) to apply the cash-deposit rate in effect for Sidex to all entries of the subject merchandise from Mittal Steel that were entered, or withdrawn from warehouse, for consumption on or after the date of publication of the final results of this changed-circumstances review. See Granular Polytetrafluoroethylene Resin from Italy: Final Results of Antidumping Duty Changed Circumstances Review, 68 FR 25327 (May 12, 2003).

This determination and this notice are in accordance with sections 751(b)(1) and 777(i)(1) of the Act and 19 CFR 351.216.

Dated: July 11, 2005.
Susan H. Kuhbach,
Acting Assistant Secretary for Import Administration.

[FR Doc. E5-3779 Filed 7-14-05; 8:45 am]

BILLING CODE 3510-DS-S